DEPARTMENT OF EDUCATION

Applications for New Awards; Education Stabilization Fund—Reimagine Workforce Preparation (ESF-RWP) Grants Program

AGENCY: Office of Career, Technical, and Adult Education, Department of Education.

ACTION: Notice; correction.

SUMMARY: On June 23, 2020, the Office of Career, Technical, and Adult Education published in the Federal Register a notice inviting applications (NIA) for new awards for fiscal year (FY) 2020 for the ESF-RWP Grants Program, Catalog of Federal Domestic Assistance (CFDA) number 84.425G. We are correcting the information regarding eligible entities for the ESF-RWP grant program to indicate that the applicant must be either a State Workforce Board that is a State agency or entity with the authority to apply for, receive, and administer ESF-RWP funds; or a State agency or entity that is designated by the State Workforce Board to apply for, receive, and administer ESF-RWP funds. All other information in the NIA, including the August 24, 2020, deadline for transmittal of applications, remains the same.

DATES: This correction is applicable July 21, 2020.

FOR FURTHER INFORMATION CONTACT: Erin Berg, U.S. Department of Education, 400 Maryland Avenue SW, Room 11113, PCP, Washington, DC 20202. Telephone: (202) 245-6792. Email: ESF-RWP@ed.gov.

If you use a telecommunications device for the deaf (TDD) or a text telephone (TTY), call the Federal Relay Service (FRS), toll free, at 1-800-877-8339.

SUPPLEMENTARY INFORMATION: On June 23, 2020, we published in the Federal Register an NIA for new awards for FY 2020 for ESF-RWP grants (85 FR 37636). In the NIA, we indicated that State Workforce Boards were eligible entities. Under section 18001(a)(3) of Division B of the Coronavirus Aid, Relief, and Economic Security Act (CARES Act), ESF-RWP funds are awarded to States. Since publication of the NIA, some States have indicated that the State Workforce Board in their State is not a State entity with the authority to apply for, receive, and administer Federal grant funds. As a result, we are correcting the NIA to indicate that the eligible entity for this competition must be either (1) a State Workforce Board that is a State agency or entity with the authority to apply for, administer, and receive ESF-RWP funds; or (2) a State agency or entity that is designated by a State Workforce Board to apply for, administer, and receive ESF-RWP funds.

All other information in the NIA, including the August 24, 2020, deadline for transmittal of applications and the requirement that only one application may be submitted per State, remains the same. Instructions for submitting an application can be found in the NIA.

Correction

In FR Doc. 2020-13480 appearing on page 37636 in the Federal Register of June 23, 2020, the following correction is made:

1. On page 37643, in the last paragraph of the right column, revise the language following the heading “1. Eligible Applicants:” to read as follows:

The eligible applicant is: (1) A State Workforce Board that is a State agency or entity with the authority to apply for, administer, and receive ESF-RWP funds; or (2) a State agency or entity that is designated by a State Workforce Board to apply for, administer, and receive ESF-RWP funds.

Program Authority: Section 18001(a)(3) of title VIII of Division B of the CARES Act, Public Law 116-36 (enacted March 27, 2020).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Scott Stump,
Assistant Secretary for Career, Technical, and Adult Education.

[FR Doc. 2020-15678 Filed 7-20-20; 8:45 am]

BILLING CODE 4000-01-P